ENVIRONMENTAL PROTECTION AGENCY

[FRL-9977-73-OECA]

Applicability Determination Index (ADI) Data System Recent Posting: Agency Applicability Determinations, Alternative Monitoring Decisions, and Regulatory Interpretations Pertaining to Standards of Performance for New Stationary Sources, Emission Guidelines and Federal Plan Requirements for Existing Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made with regard to the New Source Performance Standards (NSPS); the National Emission Standards for Hazardous Air Pollutants (NESHAP); the Emission Guidelines and Federal Plan Requirements for existing sources; and/or the Stratospheric Ozone Protection Program.

FOR FURTHER INFORMATION CONTACT: An electronic copy of each complete document posted on the Applicability Determination Index (ADI) data system is available on the internet through the Resources and Guidance Documents for Compliance Assistance page of the Clean Air Act Compliance Monitoring website under “Air” at: https://www2.epa.gov/compliance/resources-and-guidance-documents-compliance-assistance. The letters and memoranda on the ADI may be located by author, date, office of issuance, subpart, citation, control number, or by string word searches. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in part 60 also apply to Federal and EPA-approved state plans for existing sources in 40 CFR part 62. See 40 CFR 62.02(b)(2). The EPA's written responses to inquiries on provisions in parts 60, 61 and 62 are commonly referred to as applicability determinations. Although the NESHAP part 63 regulations [which include Maximum Achievable Control Technology (MACT) standards and/or Generally Available Control Technology (GACT) standards] contain no specific regulatory provision providing that sources may request applicability determinations, the EPA also responds to written inquiries regarding applicability for the part 63 regulations. In addition, the General Provisions in part 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system on the internet with over three thousand EPA letters and memoranda pertaining to the applicability, monitoring, recordkeeping, and reporting requirements of the NSPS, NESHAP, emission guidelines and Federal Plans for existing sources, and stratospheric ozone regulations. Users can search for letters and memoranda by date, office of issuance, subpart, citation, control number, or by string word searches.

Today's notice comprises a summary of 54 such documents added to the ADI on April 24, 2018. This notice lists the subject and header of each letter and memorandum, as well as a brief abstract of the letter or memorandum. Complete copies of these documents may be obtained from the ADI on the internet through the Resources and Guidance Documents for Compliance Assistance page of the Clean Air Act Compliance Monitoring website under “Air” at: https://www2.epa.gov/compliance/resources-and-guidance-documents-compliance-assistance.

Summary of Headers and Abstracts

The following table identifies the database control number for each document posted on the ADI data system on April 24, 2018; the applicable category; the section(s) and/or subpart(s) of 40 CFR part 60, 61, 62, or 63 (as applicable) addressed in the document; and the title of the document, which provides a brief description of the subject matter.

Also included is an abstract of each document identified with its control number after the table. These abstracts are provided solely to alert the public to possible items of interest and are not intended as substitutes for the contents of the documents. This notice does not change the status of any document with respect to whether it is “of nationwide scope or effect” for purposes of CAA section 307(b)(1). For example, this notice does not convert an applicability determination for a particular source into a nationwide rule. Neither does it purport to make a previously non-binding document binding.

ADI Determinations Uploaded on April 24, 2018
Control No. | Categories | Subparts | Title
1600019 | NSPS | A, TTTT | Applicability Determination for Stationary Combustion Turbine.
FP00003 | Federal Plan | LLL, EEE | Alternative Monitoring Plan at Sewage Sludge Incinerator.
1700003 | NSPS | WWW | Alternative Tier 2 Testing Methodology for MSW Landfill.
1700004 | NSPS, MACT, NESHAP | Kb, UUUU | Applicability Determination for Two Carbon Disulfide Storage Tanks.
1700005 | NSPS, MACT | Ja, CC | Applicability Determination to Determine if Compliance with 40 CFR 63.670 Triggers 40 CFR 60 NSPS Subpart Ja for Flares.
FP00004 | Federal Plan | LLL | Applicability Determination for Sewage Sludge Gasifier.
1700008 | NSPS | A, Appen | Relative Accuracy Test Audit Frequency for Carbon Monoxide CEMS.
1700010 | NSPS | CCCC, EEEE | Applicability Determination for Gasification Unit.
1700011 | Federal Plan, NSPS | GGG, WWW | Request for Removal of Landfill Gas Collection and Control System.
1700012 | NSPS | A, J | Applicability Determination for Flare at Hydrogen Reformer Facility.
1700014 | NSPS | OOOOa | Applicability Determination for Well Completion Operations.
1700015 | NSPS | KKKK | Regulatory Interpretation for Emissions Reporting at Combustion Turbine.
1700016 | NSPS | J, Ja | Alternative Monitoring Plan for Hydrogen Sulfide in Temporary Tank Degassing Events at a Refinery.
1700017 | NSPS | OOO | Applicability Determination of Nonmetallic Mineral.
1700018 | NSPS | J, Ja | Alternative Monitoring Plan for Hydrogen Sulfide and Sulfur Dioxide in Flares and Fuel Gas Combustion Devices at Petroleum Refinery.
1700019 | NSPS | Ja | Alternative Monitoring Request for Sulfur Dioxide at Sulfur Recovery Plant.
1700020 | NSPS | A, Ja | Alternative Monitoring Plan for CEMS Calibration Gas at a Refinery.
1700021 | NSPS | J, Ja | Alternative Monitoring Plan for Hydrogen Sulfide Vapors Combusted in Portable Thermal Oxidizers at Refineries.
1700022 | NSPS | J, Ja | Alternative Monitoring Plan and Performance Test Waiver for Hydrogen Sulfide Vapors Combusted in Portable Thermal Oxidizers and Fuel Gas Combustion Devices at Refineries.
1700023 | NSPS | Ja | Alternative Monitoring Plan for Hydrogen Sulfide in Vapor Combustion Units at a Refinery.
1700024 | NSPS | J, Ja | Alternative Monitoring Plan for Hydrogen Sulfide and Sulfur Dioxide in Flares and Fuel Gas Combustion Devices at a Refinery.
1700025 | NSPS | J, Ja | Alternative Monitoring Plan for Hydrogen Sulfide in Mobile Combustion Devices at Refineries.
1700026 | NSPS | Ja | Alternative Monitoring Plan for NOx CEMS Span for Heaters at a Refinery.
1700027 | NSPS | A, Ja | Alternative Monitoring Plan for Total Reduced Sulfur in Flare System at a Refinery.
1700028 | NSPS | NNN, RRR | Alternative Monitoring Plan and Test Waiver for the Olefins Manufacturing Unit and Demethanizer Distillation Column Vents at a Chemical Manufacturing Plant.
1700029 | NSPS, NESHAP, MACT | J, UUU | Alternative Monitoring Plan for Wet Gas Scrubber at a Refinery.
1700030 | NSPS | Ja | Flare Flow Monitoring Accuracy Requirement for a Refinery.
1700031 | NSPS | Ja | Flare Flow Monitoring Accuracy Requirement for a Refinery.
1700032 | NSPS | Ja | Flare Flow Monitoring Accuracy Requirement for a Refinery.
1700033 | NSPS | Ja | Flare Flow Monitoring Accuracy Requirement for a Refinery.
1700034 | NSPS, NESHAP, MACT | Ja, UUU | Alternative Monitoring Plan for Sulfur Dioxide and Oxygen Concentrations at Sulfur Recovery Unit Incinerator at a Refinery.
1700035 | NSPS | J, Ja | Alternative Monitoring Plan for Portable Flares and Fuel Gas Combustion Devices During Degassing Operations at a Refinery.
1700036 | NSPS | FFF | Performance Test Waiver for Flexible Vinyl and Urethane Coating and Printing Lines.
A170001 | Asbestos, NESHAP | M | Applicability Determination for Vermiculite Material in Building Demolition.
M170001 | MACT | PPPP | Applicability Determination for Surface Coating Facility.
M170002 | MACT | CC | Applicability Determination for Vapor Combustor at a Petroleum Refinery.
M170004 | MACT, NESHAP | DDDDD, HHH | Applicability Determination for Glycol Reboiler Heater at Natural Gas Facility.
M170005 | MACT | EEE | Alternative Relative Accuracy Procedure for Three Hazardous Waste Liquid Fuel Boilers.
M170006 | MACT | PPPP | Alternative Control Device and Monitoring for Plastic Parts and Products Coating Facility.
M170007 | MACT | PPPPP | Reconstruction for Test Cells/Stands.
M170008 | MACT | CC | Determination for Flare Vent Gas Chromatography Calibration and Configuration at Refinery.
M170009 | MACT | UUUUU | Eligibility to Pursue Low Emitting Electric Generating Unit Status under the Mercury Air Toxics Rule.
M170010 | MACT, NSPS | ZZZZ, IIII | Applicability Determination for Engines at Pump Station.
M170011 | MACT | FFFF, G | Waiver Request for Flow Measurement at a Flare Performance Test.
M170012 | MACT | DDDDD | Mercury Site-Specific Fuel Analysis Plans for Boilers and Process Heaters.
M170013 | MACT | DDDDD | Alternative Mercury Analysis Breakthrough Request.
M170014 | MACT, NESHAP | UUU | Alternative Monitoring for Oxygen Concentration at a Refinery.
M170017 | MACT | FFFF, HHHHH | Applicability of MON & MCM rules to Adhesive Processes at 3M.
WDS-146 | Woodstoves NSPS | AAA | Regulatory Interpretation for Catalyst Suitable Replacement Procedures.
WDS-147 | Woodstoves, NSPS | AAA, QQQQ | Regulatory Interpretation on the Wood Heater Sealing and Certification Requirements.
WDS-148 | Woodstoves NSPS | AAA | Applicability Determination for Wood-Burning Sauna Heaters.
Z170001 | NESHAP, MACT | X | Applicability Determination for Secondary Lead Smelting Facility.
Z170002 | NESHAP | UUUU | Alternative Test and Monitoring Methods for Sulfur Compound Emissions in Process Vents at a Cellulose Manufacturing Facility.
Z170003 | NESHAP | UUU | Alternative Monitoring for Oxygen Concentration in Catalyst Regenerator at a Refinery.

Abstracts

Abstract for [1600019]

Q: Did construction commence on the Portland General Electric (PGE) Carty Generating Facility electric generating unit (EGU) located in Boardman, Oregon when the turn-key contract for construction of the Facility was signed, or later when the contractor began actual onsite construction activities?

A: Pursuant to 40 CFR 60.5(a) and 40 CFR 60.2 definition of “commence”, EPA determines that PGE's construction commenced on June 3, 2013, when PGE entered into a contractual obligation construction of the Carty Generating Facility.

Abstract for [FP00003]

Q1: Does the EPA approve Lynn Water and Sewer Commission's (Lynn's) request to use site-specific control technology and monitoring parameters for the granular activated carbon adsorption system used to control mercury emissions from the sewage sludge incinerator (SSI), subject to the 40 CFR part, subpart MMMM, Emissions Guidelines and Compliance Timelines for Existing Sewage Sludge Incineration (SSI) Units, and located in Lynn, Massachusetts? The SSI is expected to be subject to the federal standards to be promulgated under 40 CFR part 62 subpart LLL, Federal Plan Requirements for Sewage Sludge Incineration Units Constructed on or Before October 14, 2010.

A1: Yes. The EPA approves Lynn's site-specific mercury emission control and monitoring plan for the carbon adsorber. SSIs located in states that did not develop plans by March 21, 2016, as required by subpart MMMM, will be subject to the Federal plan requirements of Subpart LLL, until such time as the state develops a plan that is approved by EPA. Moreover, the Clean Air Act at 42 U.S.C. 7429(f)(2) states that performance standards for existing SSIs shall be in effect no later than five years after the date the emission guidelines were promulgated, that is by March 21, 2016.

Q2: Does the EPA approve Lynn's request for an Alternative Monitoring Plan (AMP) for the wet electrostatic precipitator (WESP) used to control particulate from the incinerator?

A2: Yes. The EPA approves Lynn's request for an AMP for the WESP.

Abstract for [1700003]

Q: Does the EPA approve the alternative testing under 40 CFR part 60, subpart WWW (the Landfill NSPS) to allow use of landfill gas flow rate measurements at the header of the voluntary gas collection and control system (GCCS) to calculate annual non-methane organic compound (NMOC) emissions for a Tier 2 test at the Central Sanitary Landfill (CSL) in Pierson, Michigan?

A: No. The EPA does not approve the alternative testing to use the flow rate measurements from the header of the GCCS, unless CSL can verify that the flow rate measured in the header of the GCCS accounts for the total quantity of landfill gas generated by the landfill.

Abstract for [1700004]

Q: Does the EPA determine that the two carbon disulfide (CS2) storage tanks located at the 3M Company (3M) Elyria, Ohio manufacturing plant are regulated under 40 CFR part 60 subpart Kb, Standards of Performance in Volatile Organic Liquid for Storage Vessels (NSPS Kb)? The CS2 storage tanks in question are part of an unloading and storage operation regulated under 40 CFR part 63 subpart UUUU (MACT UUUU), NESHAP for Cellulose Products Manufacturing, and the tanks do not have gaseous emissions.

A: No. The EPA determines that the storage tanks in question that store CS2, a volatile organic liquid, are not regulated under NSPS Kb based on the language in Section VI.G.2 of the EPA memorandum from William Schrock, OAQPS/ESD/OCG to Docket No. A-99-39, Summary of Public Comments and Responses on the Proposed NESHAP for Cellulosic Products Manufacturing, dated February 15, 2002. The two CS2 storage tanks are not the type of storage vessels in terms of their physical siting and operational design that were intended to be regulated under NSPS Subpart Kb, even when these tanks meet the vapor pressure and designed capacity under the NSPS rule. The tanks in question are completely submerged in a common water bath and have no air space within the tanks due to having a water layer above the CS2 layer at all times. Therefore, the tanks do not have direct CS2 gaseous emissions.

Abstract for [1700005]

Q: Does the EPA determine that changes made to the OMD-1 Rail rack flare, located at the Suncor Energy, Inc. petroleum refinery in Commerce City, Colorado, to ensure compliance with 40 CFR part 63 subpart CC, NESHAP from Petroleum Refineries, are considered a modification under 40 CFR part 60 subpart Ja?

A: No. Based on the information provided, the addition of utility supplied natural gas to the OMD-1 Rail rack flare would not be considered a modification for subpart Ja purposes because this flare is not physically connecting any new piping from a “refinery process unit”, including “ancillary equipment,” or a “fuel gas system” as those terms are defined in Subpart Ja. Rather, the new piping is adding utility supplied natural gas to vapors from loading racks, Also, the addition of utility supplied natural gas to the OMD-1 Rail rack flare is not increasing the flow capacity of the flare.

Abstract for [FP00004]

Q: Does the EPA determine that 40 CFR part 60 subpart MMMM—Emissions Guidelines and Compliance Timelines for Existing Sewage Sludge Incineration (SSI) Units (SSI EG Rule) applies to a sewage sludge gasifier owned by MaxWest Environmental Systems Inc. (MaxWest) and located in Sanford, Florida?

A: No. EPA determines that the SSI EG Rule, does not apply to the Maxwest sewage sludge gasifier and thermal oxidizer process heater. According to the SSI EG Rule, an SSI unit is an “enclosed device or devices using controlled flame combustion that burns sewage sludge for the purpose of reducing the volume of sewage sludge by removing combustible matter.” The MaxWest system has no flame and it is not a sewage sludge incinerator. Next, while the syngas which results from the gasifier is combusted, the SSI EG rule defines sewage sludge as “solid, semisolid, or liquid residue generated during the treatment of domestic sludge in treatment works.” Since the syngas is a gas and not a solid, semisolid, or liquid, it does not meet the definition of sewage sludge in the SSI EG rule (even though it is derived from sewage sludge).

Abstract for [1700008]

Q: Does the EPA approve an alternate Relative Accuracy Test Audit (RATA) frequency for two carbon monoxide (CO) and nitrogen oxides (NOx) Continuous Emissions Monitoring Systems (CEMS) on two turbines located at the Associated Electric Cooperative, Inc. (AECI) Dell Power Plant in Dell, Arkansas?

A: Yes. The EPA approves AECI's request to follow the part 75 RATA frequency requirements for both NOx and CO CEMS, in accordance with similar prior approvals allowing a reduction in RATA frequency requirements for NOx and CO CEMS under part 60 Appendix F. The AECI turbines operate infrequently, and part 60 RATA frequency requirements do not take into account the frequency of the unit operations.

Abstract for [1700010]

Q: Is the proposed pilot gasification unit at the Carbon Black Global LLC (CBG) facility in Dunlap, Tennessee subject to 40 CFR part 60 subpart CCCC (Standards of Performance for Commercial and Industrial Solid Waste Incineration (CISWI NSPS)? The pilot “scaled-down” unit will be used to optimize and research the gasification of a variety of carbon-based waste feedstocks for clients. The resultant syngas will be flared.

A: No. The proposed CBG's operation of the pilot unit is not a CISWI unit as defined in § 60.2265 and is therefore not subject to the CISWI NSPS because the resultant syngas will not be in a container when combusted in the flare. While operation of the pilot unit by CBG is not subject to the CISWI NSPS, combustion of syngas produced by the gasification of other wastes, by CBG clients, should be evaluated by the appropriate delegated permitting agency for potential applicability under section 129 or section 112 (in the case of hazardous waste rules).

Abstract for [1700011]

Q1: Does the EPA give permission to remove the Site No. 1, Site No. 2, Fons and Old Wayne landfills' (the Landfills) landfill gas (LFG) gas collection and control system (GCCS) at a Wayne Disposal Inc. (WDI) site in Belleville, Michigan that is subject to the Municipal Solid Waste Landfill Federal Plan at 40 CFR part 62 subpart GGG (Landfill Federal Plan)?

A1: Yes. The EPA grants permission for WDI to cap or remove its LFG GCCS from a specific cell to allow a new hazardous waste landfill cell to overlay it since it has met the approval criteria established at 40 CFR 60.752(b)(2)(v), including: (1) The Landfills are “a closed landfill[s]; (2) demonstrated that the NMOC gas production rate is less than 50 Mg/yr; and (3) demonstrated that the GCCS has been in operation for at least 15 years, as well as the required removal report is described in 40 CFR 60.757(e). Details behind this decision are included in the EPA determination letter.

Q2: Can a landfill cap and remove its GCCS prior to the 15-year control period if a GCCS was operational prior to the start of the 15-year control period, but not in compliance with the Landfill NSPS and the Landfill Federal Plan design criteria?

A2: No. WDI may cap or remove its GCCS at the remaining Landfills after October 6, 2017, since all conditions per 40 CFR 60.752(b)(2)(v) for landfill closure will be met on that date. A landfill is required to do a performance test when a GCCS is installed to ensure that it is in compliance with the Landfill Federal Plan or Landfill NSPS, whichever is applicable, which is one of the criteria. Once the GCCS is determined to be in compliance with design criteria in the Landfill NSPS and the Federal plan, the 15-year control period begins. Based on the information provided, WDI has not yet satisfied the 15-year requirement and must maintain operation of the GCCS until October 6, 2017.

Abstract for [1700012]

Q1: Does the EPA determine that the purchase order for a flare at the Linde Gas North America hydrogen reformer facility, located in Romeoville, Illinois, signed prior to the applicability deadline for 40 CFR part 60 subpart J, establish that the facility “commenced construction” of the flare?

A1: Yes. The signed purchase order established a contractual obligation to construct the flare and therefore the facility had commenced construction prior to the subpart J applicability deadline.

Q2: Does the EPA determine that gas streams routed to the flare for combustion are exempt from the hydrogen sulfide (H2S) emission limit at 40 CFR 60.104(a)(1) if the streams result from startup, shutdown, upset or malfunction of the plant or are due to relief valve leakage or other emergency malfunctions?

A2: Yes. Process upset gases and gases released as a result of relief valve leakage or other emergency malfunctions are exempt from this H2S emission limit.

Q3: Does the EPA determine that the flare is exempt from the sulfur dioxide (SO2) monitoring requirements at 40 CFR 60.105(a) if the fuel gas streams are “inherently low in sulfur”?

A3: Yes. Based on the information provided to the EPA about the gas streams directed to the flare, they are inherently low in sulfur and therefore the facility is exempt from the SO2 monitoring requirements at 40 CFR 60.105(a).

Abstract for [1700014]

Q: Does the EPA determine that well completions performed by CountryMark Energy Resources, LLC (CountryMark) meet the definition of hydraulic fracturing at 40 CFR 60.5430a and are subject to subpart OOOOa?

A: Yes. The EPA determines that CountryMark's operations meet the definition of hydraulic fracturing at 40 CFR 60.5430a, and are therefore subject to applicable requirements of subpart OOOOa, including but not limited to the standards for well affected facilities at 40 CFR 60.5375a. EPA concludes that the formations within the Illinois Basin that CountryMark has identified are considered “tight formations” because it is necessary to inject pressurized fluids into the formations to “increase the flow of hydrocarbons to the wellhead”.

Abstract for [1700015]

Q: Does EPA determine that water and fuel injection data associated with the startup and shutdown of a combustion turbine at the Marshfield Utilities electric power generation facility be included in the 4-hour rolling average calculation used to determine compliance with the nitrogen oxide (NOx) emission limitations for stationary combustion turbines and for reporting excess emissions under 40 CFR part 60 subpart KKKK?

A: Yes. Subpart KKKK requires that all unit operating hours, including periods of startup, shutdown and malfunction be included in the 4-hour rolling average steam or water to fuel ratio calculation in accordance with 40 CFR 60.4335(a) and 40 CFR 60.4375(a), and any excess emissions must be reported under 40 CFR 60.4380(a)(l). However, such excess emissions would not constitute a violation of subpart KKKK if they occurred as a result of startup, shutdown, or malfunction.

Abstract for [1700016]

Q: Does the EPA approve an Alternative Monitoring Plan (AMP) to monitor hydrogen sulfide (H2S) in refinery fuel gas during TRiSTAR/Global Vapor Control, Inc.'s (TRiSTAR) temporary vapor control events, such as tank degassing and cleaning operations subject to 40 CFR part 60 subparts J at refineries in Region 5?

A: Yes. The EPA approves TRiSTAR's AMP at refineries in Region 5 since installing and operating an H2S CMS would be technically impractical due to the short term nature of tank degassing and similar operations.

Abstract for [1700017]

Q: Does the EPA determine that sodium gluconate produced at the PMP Fermentation Products, Inc. facility in Peoria, Illinois is classified as a nonmetallic mineral under NSPS Subpart OOO?

A. Yes. The EPA determines that sodium gluconate meets the definition of nonmetallic mineral established in NSPS subpart OOO.

Abstract for [1700018]

Q: Does the EPA approve an expansion of the previously approved Alternative Monitoring Plan (AMP) for the Flint Hills Resources refinery to monitor hydrogen sulfide (H2S) and sulfur dioxide (SO2) when using portable flares and fuel gas combustion devices to reduce volatile organic compound (VOC) emissions from vessels and pipes subject to 40 CFR part 60 subpart J or Ja?

A: Yes. The EPA approves that the previously-approved AMP, to monitor H2S and SO2 in flares and fuel gas combustion devices used to treat VOC emissions from petroleum refinery storage tank degassing and cleaning operations subject to NSPS subparts J and Ja.

Abstract for [1700019]

Q: Does the EPA approve Calumet Superior's alternative monitoring proposal to use a static default moisture correction to correct the sulfur dioxide CEMS data to a dry basis, for a sulfur recovery plant located in Superior, Wisconsin, subject to 40 CFR part 60 subpart Ja?

A: No. NSPS subpart Ja at 40 CFR 60.l06a(a)(l) and the Performance Specification 2 of Appendix B to part 60 allow for the data to be monitored either on a dry basis, or to be corrected to a dry basis using continuously monitored moisture data.

Abstract for [1700020]

Q: Does the EPA approve a request to reduce the concentrations of the calibration gas and validation standards on the continuous emission monitoring system (CEMS) for several flares subject to 40 CFR part 60 subpart Ja at the Alon USA (Alon) Big Spring refinery located in Big Spring, Texas?

A: Yes. The EPA conditionally approves the request provided that all other requirements of the monitoring procedures of NSPS subpart Ja for total reduced sulfur (TRS) and hydrogen sulfide (H2S) are followed. The alternative span gases will address safety concerns involving storage, handling, and engineering controls. The EPA conditionally approves a calibration gas concentration range of 0-85 percent for conducting daily drift checks, relative accuracy test audits, and cylinder gas audits, using a mass spectrometer to continuously analyze and monitor H2S and TRS, provided that Alon conducts linearity analysis on the mass spectrometer once every three years to determine linearity across the entire range of expected concentrations of acid gas vent streams.

Abstract for [1700021]

Q: Does the EPA approve an Alternative Monitoring Plan (AMP) for various refineries located in EPA Region 6 and operated by Debusk Service Group to conduct monitoring of hydrogen sulfide (H2S) emissions, in lieu of installing a continuous emission monitoring system (CEMS), when performing tank degassing and other similar operations controlled by portable, temporary thermal oxidizers, that are subject to 40 CFR part 60 subparts J or Ja?

A: Yes. Based on the description of the process, the vent gas streams, the design of the vent gas controls, and the H2S monitoring data furnished, the EPA conditionally approves the AMP. The EPA included proposed operating parameter limits (OPLs) and data which the refineries must furnish as part of the conditional approval. The AMP is only for degassing operations conducted at refineries in EPA Region 6. Separate, similar AMP requests for the same company to conduct degassing operations at refineries in states in other EPA regions must be approved by those EPA regions.

Abstract for [1700022]

Q: Does EPA approve an Alternative Monitoring Plan (AMP) for the two Flint Hills Resources Corpus Christi refineries (Flint Hills Refineries) to conduct monitoring of hydrogen sulfide (H2S) emissions, in lieu of installing a continuous emission monitoring system (CEMS), when performing tank degassing and other similar operations controlled by portable, temporary thermal oxidizers and other fuel combustion devices that are subject to 40 CFR part 60 subparts J or Ja?

A: Yes. Based on the description of the process, the vent gas streams, the design of the vent gas controls, and the H2S monitoring data furnished, EPA conditionally approves a combined AMP for the portable fuel combustion devices used at both refineries. EPA included proposed operating parameter limits (OPLs), and data which the refineries must retain and obtain from contractors, as part of the conditional approval. The AMP is only for the portable fuel combustion devices at the aforementioned Flint Hills Refineries. Separate, similar AMP requests for the same company must be approved by the EPA region.

Abstract for [1700023]

Q: Does EPA approve an Alternative Monitoring Plan (AMP) for monitoring hydrogen sulfide (H2S) in refinery fuel gas streams at the Magellan Midstream Partners, L.P.'s (Magellan) facility in Corpus Christi, Texas which are subject to 40 CFR part 60 subparts J or Ja?

A: Yes. Based on the information provided by Magellan, the facility uses a vapor combustion unit (VCU) to control emissions from degassing, cleaning, and maintenance activities associated with tanks, vessels, pipes, and LPG trucks. Because the VCU will be used infrequently, and for short periods, installation of an H2S continuous emission monitoring system (CEMS) as required under NSPS Subpart Ja is not economically feasible. The EPA approves use of colorimetric stain tubes to determine the concentration of H2S in three fuel gas grab samples prior to entering the VCU. Magellan must record the results of each grab sample, the key activities completed with each operation, and any other relevant information associated with degassing, cleaning, and maintenance activities.

Abstract for [1700024]

Q: Does the EPA approve an Alternative Monitoring Plan (AMP) for Flint Hill Resources in Rosemount, Minnesota, to monitor hydrogen sulfide (H2S) and sulfur dioxide (SO2) in flares for flares and fuel gas combustion devices used to treat volatile organic compound (VOC) emissions from petroleum refinery storage tank degassing and cleaning operations subject to the New Source Performance Standards for Petroleum Refineries, 40 CFR part 60 subparts J and Ja (NSPS subparts J and Ja)?

A: Yes. The EPA approves an AMP to monitor H2S and SO2 in flares for flares and fuel gas combustion devices used to treat VOC emissions from petroleum refinery storage tank degassing and cleaning operations subject to NSPS subparts J and Ja.

Abstract for [1700025]

Q: Does the EPA approve an Alternative Monitoring Plan (AMP) for GEM Mobile Treatment Services to monitor hydrogen sulfide (H2S) in refinery fuel gas during temporary vapor control events subject NSPS Subparts J and Ja, such as tank degassing, at refineries in EPA Region 5?

A: Yes. The EPA approves an AMP to monitor H2S in refinery fuel gas for mobile combustion devices flares and fuel gas combustion devices used to treat emissions from temporary vapor control events, such as tank degassing. Separate, similar AMP requests for facilities located in other EPA regions must be approved by the appropriate EPA region.

Abstract for [1700026]

Q: Does the EPA approve Flint Hills Resources (FHR) to use a span of 0-50 ppmvd for the nitrogen oxides (NOX) continuous emission monitoring system (CEMS) at two heaters located at the Pine Ben Refinery located in Saint Paul Minnesota, subject to 40 CFR part 60 subpart Ja?

A: No. EPA disapproves the Alternative Monitoring Proposal to allow the analyzers spans of 0-50 ppmvd as this range does not cover the applicable emission limit of 60 ppmvd. However, the EPA conditionally approves a span of 0-60 ppmvd rather than the 120-180 ppmdv required by 40 CFR 60.107a(c)(1) for the NOX CEMS. The specific conditions are specified in the EPA response letter.

Abstract for [1700027]

Q: Does the EPA approve an Alternative Monitoring Plan (AMP) to reduce the concentration of calibration gas used to perform daily validations and quarterly cylinder gas audits (CGA) of the Total Reduced Sulfur monitor for the flare gas system at the HollyFrontier El Dorado Refining LLC refinery (HFEDR) in El Dorado, Kansas, as required pursuant to 40 CFR 60.13(d) and 40 CFR 60, Appendix F, respectively?

A: Yes. The EPA conditionally approves the HFEDR AMP due to the safety concerns associated with handling gases with high concentrations of hydrogen disulfide (H2S). The conditions are listed in the EPA determination letter.

Abstract for [1700028]

Q1: Does the EPA approve a waiver of the initial performance test for the Olefins Manufacturing Unit and Demethanizer Distillation Column Vents, at the Eastman Chemical Company, Longview, Texas facility, subject to 40 CFR part 60, Standards of Performance for Volatile Organic Compound Emissions from Synthetic Organic Chemical Manufacturing Industry Distillation Operations (subpart NNN) and Reactor Processes (subpart RRR)?

A1: Yes. EPA waives the initial performance test for the specific vents associated with the two units, both subject to NSPS Subparts RRR and NNN, as these are being introduced with the primary fuel into a boiler or process heater in accordance with 40 CFR 60.8(b) and as provided for in § 60.704(b)(5) of subpart RRR. To ensure that affected vent streams are routed to appropriate control devices, subpart RRR requires that the facility maintain a schematic diagram of the affected vent streams, collection system(s), fuel systems, control devices, and bypass systems, and include the diagram in the initial report submitted in accordance with 40 CFR 60.705(b).

Q2: Does EPA approve a substitution of NSPS subpart NNN for NSPS subpart RRR as an alternative flow and temperature monitoring for the vent streams associated with two new demethanizer distillation columns?

A2: Yes. The EPA approves the alternative request for meeting subpart RRR in lieu of subpart NNN requirements for testing, monitoring, and recordkeeping for boilers and process heaters, part of the fuel gas system, to comply with the standards of both subparts.

Abstract for [1700029]

Q: Does the EPA re-approve the May 2011 AMP to comply with new opacity requirements for a wet gas scrubbers (WGS) on the Fluid Catalytic Cracking Unit (FCCU) at Motiva's Convent, Louisiana refinery, subject to NSPS subpart J and NESHAP subpart UUU, for continued parametric monitoring of opacity at the WGS in lieu of a Continuous Opacity Monitoring System?

A: Yes. Based on the previously established operating parameter limits for the scrubbers, the EPA agrees that the monitoring provisions of the previously approved AMP were at least as stringent as the new FCCUs requirements in both rules amended December 1, 2015, and therefore re-approves the AMP under the new rules.

Abstract for [1700030]

Q1: Does the EPA find that the Alternative Monitoring Plan (AMP) to modify a flare's flow sensor measurement accuracy during extremely low flow conditions at the Valero Refining Company's Ardmore Refinery in Ardmore, Oklahoma, is still necessary if the flare is a control device subject to 40 CFR 60.107a(f)(1)(ii)?

A1: No. The EPA finds that the AMP is no longer necessary. The Final Rule for the Petroleum Refinery Sector Risk and Technology Review, issued December 1, 2015, amended 40 CFR part 60 subpart Ja to address such conditions for flares equipped with water seals.

Q2: What does the revised rule now require?

A2: 40 CFR 60.107a(g) allows alternative monitoring with pressure sensors for flares that have flow meters which do not have measurement accuracies within ±20 percent over a velocity range of 0.1-1 feet per second (fps) flow rate, or ±5 percent for flow velocities exceeding 1 fps.

Abstract for [1700031]

Q1: Does the EPA find that the Alternative Monitoring Plans (AMPs) to modify the flow sensor measurement accuracy of flares during extremely low flow conditions at the Valero Refining, Texas L.P.'s Corpus Christi West Plant and Corpus Christi East Plant Refineries in Corpus Christi, Texas, are still necessary if the flares are control devices subject to 40 CFR 60.107a(f)(1)(ii)?

A1: No. The EPA finds that the AMPs are no longer necessary. The Final Rule for the Petroleum Refinery Sector Risk and Technology Review, issued December 1, 2015, amended 40 CFR part 60 subpart Ja to address such conditions for flares equipped with water seals.

Q2: What does the revised rule now require?

A2: 40 CFR 60.107a(g) allows alternative monitoring with pressure sensors for flares that have flow meters which do not have measurement accuracies within ±20 percent over a velocity range of 0.1-1 feet per second (fps) flow rate, or ±5 percent for flow velocities exceeding 1 fps.

Abstract for [1700032]

Q1: Does the EPA find that the Alternative Monitoring Plan (AMP) to modify flow sensor measurement accuracy for multiple flares during extremely low flow conditions at the Valero Refining Company's Texas City Refinery in Texas City, Texas, is still necessary, if the flares are control devices subject to 40 CFR 60.107a(f)(1)(ii)?

A1: No. The EPA finds that the AMP is no longer necessary. The Final Rule for the Petroleum Refinery Sector Risk and Technology Review, issued December 1, 2015, amended 40 CFR part 60 subpart Ja to address such conditions for flares equipped with water seals.

Q2: What does the revised rule now require?

A2: 40 CFR 60.107a(g) allows alternative monitoring with pressure sensors for flares that have flow meters which do not have measurement accuracies within ±20 percent over a velocity range of 0.1-1 feet per second (fps) flow rate, or ±5 percent for flow velocities exceeding 1 fps.

Abstract for [1700033]

Q1: Does the EPA find that an Alternative Monitoring Plan (AMP) to modify flow sensor measurement accuracy for multiple flares during extremely low flow conditions at Valero Refining Company's Three Rivers Refinery in Three Rivers, Texas, is still necessary if the flares are control devices subject to 40 CFR 60.107a(f)(1)(ii)?

A1: No. The EPA finds that the AMP is no longer necessary. The Final Rule for the Petroleum Refinery Sector Risk and Technology Review, issued December 1, 2015, amended 40 CFR part 60 subpart Ja to address such conditions for flares equipped with water seals.

Q2: What does the revised rule now require?

A2: 40 CFR 60.107a(g) allows alternative monitoring with pressure sensors for flares that have flow meters which do not have measurement accuracies within ±20 percent over a velocity range of 0.1-1 feet per second (fps) flow rate, or ±5 percent for flow velocities exceeding 1 fps.

Abstract for [1700034]

Q: Does the EPA approve an Alternative Monitoring Plan (AMP) for determining sulfur dioxide (SO2) and oxygen (O2) concentrations on a dry basis, using wet basis concentration data from continuous emission monitoring systems (CEMS) at a sulfur recovery unit (SRU) incinerator at the Valero Refining-Meraux LLC (Valero) petroleum refinery, located in Meraux, Louisiana, subject to 40 CFR part 60 subpart Ja and 40 CFR part 63 subpart UUU?

A: Yes. The EPA conditionally approves Valero's AMP on the No. 3 SRU incinerator while the new dry basis SO2 and O2 CEMS are installed and commissioned before the AMP expiration date of August 1, 2017. Valero proposed programming the refinery's process control and data acquisition system to perform real time moisture corrections of the vent stream concentrations at the SRU incinerator. The EPA approves Valero's request to use a methodology to mathematically correct the measured wet basis concentrations to dry basis using Equation 2-1, from 40 CFR part 60, Appendix B, Performance Specification 2, and the moisture fraction value from the most recent stack test.

Abstract for [1700035]

Q: Does the EPA approve WRB Refining LP's (WRB) Alternative Monitoring Plan (AMP) for monitoring hydrogen sulfide (H2S) and sulfur dioxide (SO2) emissions from portable flares and fuel gas combustion devices used to control emissions from storage tank, process unit vessel and piping degassing for maintenance and cleaning events at the Wood River Refinery in Roxana, Illinois refinery subject to 40 CFR part 60 subparts J and Ja?

A: Yes. The EPA conditionally approves WRB's AMP request since it agrees that it is impractical to continuously monitor the H2S in and SO2 emissions from gases going to portable flares and fuel gas combustion devices during the infrequent and temporary events when storage tanks, process unit vessels and piping are degassed for maintenance and cleaning operations, and approves the AMP. The conditions are specified in the EPA determination letter.

Abstract for [1700036]

Q: Does the EPA grant 3M's request to waive the initial performance testing requirements of 40 CFR part 60 subpart FFF, Standards of Performance for Flexible Vinyl and Urethane Coating and Printing (NSPS subpart FFF) for 3M's 3L and 6L lines at its Hutchinson, Minnesota facility, which are controlled by separate thermal oxidizers?

A: No. The EPA does not waive the initial performance testing requirements for 3M's 3L and 6L lines under NSPS subpart FFF for two reasons. First, the capture and destruction efficiency testing on which 3M wants the waiver to rely were not conducted at the same time. NSPS subpart FFF requires “a performance test to determine overall VOC control efficiency” which implies simultaneous testing of both capture efficiency and destruction efficiency at the same time to demonstrate compliance. Second, even if separate testing of capture and destruction efficiency was allowed by NSPS subpart FFF, the tests identified by 3M for demonstrating compliance were conducted years apart (3 and 10 years for the 3L and 6L lines, respectively). Such long time periods between testing cannot provide assurance that compliance was achieved, and cannot provide assurance that operational conditions during each test were identical.

Abstract for [A170001]

Q: Is there a requirement that Wayne County treat vermiculite material containing less than one percent asbestos by Polarized Light Microscopy (PLM) and/or Transmission Electron Microscopy (TEM) as regulated asbestos-containing material (RACM) under 40 CFR part 61 subpart M (Asbestos NESHAP)? The Wayne County Airport demolition of Building 715 involves suspect asbestos-containing material (ACM) consisting of spray-applied fireproofing on the primary roof structure that contains vermiculite.

A: The EPA recommends, but does not require, that the regulated community assume vermiculite material is asbestos-containing material (ACM) and treat it accordingly. However, if vermiculite material is present in building materials at a facility (as either friable or Category I or II nonfriable material that could become regulated), then the facility must be thoroughly inspected and any suspect vermiculite material must be sampled and analyzed like any other suspect asbestos-containing friable or nonfriable material unless it is assumed to be ACM and treated accordingly. Based on the site-specific test results provided by the Wayne County Airport, the spray-applied fire proofing tested at Building 715 is not ACM, and is not subject to the federal Asbestos NESHAP.

Abstract for [M170001]

Q: Does the EPA determine that the Magna DexSys facility in Lansing, Michigan (Lansing facility) is a major source of hazardous air pollutants (HAPs) for purposes of applicability of the NESHAP for Surface Coating of Plastic Parts and Products, at 40 CFR part 63 subpart PPPP?

A: Yes. Based upon the information provided, the EPA determines that Magna DexSys is a major source as defined under Section 112 of the Clean Air Act and is, therefore, subject to the requirements of subpart PPPP. The Lansing facility's permitted xylene emission limits have always been, and are still, above the major source threshold. Furthermore, Magna DexSys lacks the data necessary to calculate uncontrolled HAP emissions at the facility, and there are no federally enforceable physical or operational limitations in place to limit emissions from the facility to less than 10 tons per year for a single HAP or 25 tons per year for any combination of HAP.

Abstract for [M170002]

Q: Does the EPA determine that the vapor combustor in the Plant 2 loading area at the Suncor Energy Inc. petroleum refinery in Commerce City, Colorado is considered a flare under 40 CFR part 63 subpart CC, NESHAP from Petroleum Refineries, and, therefore, subject to the flare requirements of 40 CFR 63.670 and 63.671?

A: No. The EPA determines that the vapor combustor described in the March 10, 2017 letter does not meet the definition of a flare at 40 CFR 63.641 of subpart CC. Therefore, the vapor combustor is not subject to the requirements in 40 CFR 63.670 and 63.671. However, the combustor needs to be tested, and operating parameters established and monitored, to assure compliance with the subpart CC emission limits.

Abstract for [M170004]

Q: Does the EPA determine that the glycol dehydration unit reboiler at El Paso Natural Gas' southern New Mexico facility, which is subject to the National Emission Standards for Hazardous Air Pollutants for Natural Gas Transmission and Storage Facilities (NESHAP subpart HHH), is also subject to the NESHAP for Industrial, Commercial, and Institutional Boilers and Process Heaters (NESHAP subpart DDDDD)?

A: Yes. The EPA determines that although the glycol dehydration reboiler is subject to NESHAP subpart HHH, the reboiler is also subject to NESHAP subpart DDDDD. The reboiler is considered a process heater subject to NESHAP subpart DDDDD because the gaseous fuel fired to the unit is not regulated under another subpart, and the exhaust gas from the reboiler combustion chamber is uncontrolled (i.e. the emissions vent directly to atmosphere). The EPA noted that process vent standards under NESHAP subpart HHH only apply to the dehydrator reboiler still vent and flash tank emissions. A flare is the control device for these emissions under NESHAP subpart HHH. However, NESHAP subpart HHH does not apply to the reboiler combustion chamber emissions because the reboiler itself is not a control device being used to comply with another NESHAP (in this case, subpart HHH).

Abstract for [M170005]

Q: Does EPA approve a request for an alternative relative accuracy (RA) procedure for three hazardous waste liquid fuel boilers at Vertellus Agriculture & Nutrition Specialties, LLC (Vertellus), in Indianapolis, Indiana, subject to 40 CFR part 266 subpart H (the Boilers and Industrial Furnaces Rule or BIF rule) and 40 CFR part 63 subpart EEE, the National Emission Standards for Hazardous Air Pollutants from Hazardous Waste Combustors (HWC MACT)?

A: Yes. EPA concludes that Vertellus may use the alternative RA procedure in the context of either the BIF Rule or the HWC MACT. The EPA previously approved the use of the alternative RA procedure in Appendix IX of 40 CFR part 266 for the hazardous waste liquid fuel boilers under the BIF rule at Vertellus. The EPA believes that the alternative RA procedures in Appendix A of the HWC MACT are acceptable procedures for a hazardous waste burning liquid fuel boiler.

Abstract for [M170006]

Q: Does EPA approve the use of the `R Boiler' as an alternative control device to comply with the “emission rate with add-on controls” compliance option under 40 CFR part 63 subpart PPPP (the NESHAP for Surface Coating of Plastic Parts and Products) for two plastic parts and products coating production lines at the SABIC Innovative Plastics Mt. Vernon, LLC (SABIC) facility in Mt. Vernon, Indiana?

A: Yes. Based on the information provided by SABIC, and the fact that SABIC intends to conduct a performance test to determine the organic HAP destruction efficiency of the `R Boiler', the EPA approves SABIC's request for this boiler to serve as an add-on control device under the NESHAP for Surface Coating of Plastic Parts and Products since it is consistent with the subpart PPPP MACT requirements for demonstrating continuous compliance thermal oxidizer as a control device.

Abstract for [M170007]

Q1: Does the EPA determine that Caterpillar Inc.'s (Caterpillar's) existing test cells/stands at its Lafayette facility are a reconstructed affected source under 40 CFR part 63 subpart PPPPP?

A1: No. EPA determines that many of the test cells/stands components that were added or replaced were not linked together by a single planning decision, and therefore cannot be aggregated together as a single project. The cost of Caterpillar's component replacements or component additions to the affected source that could conceivably be aggregated together are well below the 50% of the cost of constructing a new comparable facility.

Q2: Has the EPA further defined the terms “passive measurement and control limitations” as used in subpart PPPPP?

A2: The EPA has not provided further definition of these terms since promulgating the subpart PPPPP rule in 2003. However, the cost of passive measurement and control instrumentation and electronics is excluded from affected source reconstruction calculations as explained in 40 CFR 63.9290.

Abstract for [M170008]

Q1: Does the EPA approve the use of either of the calibration options provided at 40 CFR 63.671(e)(2)(i) or (ii) under the National Emission Standards for Hazardous Air Pollutants from Petroleum Refineries at 40 CFR part 63, subpart CC (NESHAP subpart CC) for its gas chromatograph (GC), if the current configuration of the GC does not allow it to identify 1,3 butadiene? The Calumet Superior, LLC. refinery plant in Superior, Wisconsin (Calumet) uses a gas chromatograph (GC) to monitor the flare vent gas composition to assess compliance with the operating limits in 40 CFR 63.670(e).

A1: No. 40 CFR 63.671(e)(2)(i) of NESHAP subpart CC is not an option because the current flare vent gas GC configuration does not allow it to identify 1,3 butadiene. Therefore, Calumet can only use the calibration option provided at 40 CFR 63.671(e)(2)(ii) since it allows the use of a surrogate calibration gas to cover all compounds in the flare vent gas stream.

Q2: Does the EPA determine that the current configuration of the flare vent GC that does not allow it to identify 1,3 butadiene meets the requirements of the NESHAP subpart CC to assess compliance with the operating limits in 40 CFR 63.670(e)? Calumet has collected and analyzed flare vent gas samples for 1,3 butadiene. The results of this sampling detected 1, 3 butadiene at concentrations levels below the threshold expected to have an impact on the net heating value of the flare vent gas in the combustion zone.

A2: Yes. Based on the information Calumet provided and pursuant to 40 CFR 63.670(j)(1) and 63.67l(e), the EPA determines that the current configuration of the flare vent gas GC meets the requirements of the NESHAP subpart CC.

Abstract for [M170009]

Q: The Michigan South Central Power Agency's Endicott Generating Station (Endicott) has a source with an emergency scrubber bypass duct subject to the Mercury Air Toxics Standards (MATS) at 40 CFR part 63 subpart UUUUU. Is this source eligible to pursue Low Emitting electric utility steam generating unit (LEE) status for sulfur dioxide (S02) emissions in accordance with 40 CFR 63.10000?

A: Yes. In accordance with the technical corrections to MATS promulgated in April 2016, Endicott may pursue LEE status for its source. Pursuant to 40 CFR 63.10000(c)(1)(i)(C)(1), if a source's control device bypass emissions are measured in the bypass stack or duct or the source's control device bypass exhaust is routed through the electric utility steam generating unit main stack so that emissions are measured during the bypass event, then the source may pursue LEE status.

Abstract for [M170010]

Q: Does the EPA determine that the replacement pump engines at the Lake Borgne Basin Levee District in St. Bernard Parish, Louisiana are existing emergency stationary Reciprocating Internal Combustion Engines (RICE) that are not subject to 40 CFR part 63 subpart ZZZZ?

A: No. Based upon the information provided and the description of the engine use, the EPA determines that the engines at the Lake Borgne Pump Station do not meet the definition of existing emergency stationary RICE at 40 CFR 63.6675. Since construction or reconstruction of the stationary engines began after June 12, 2006, and the engines are located in an area source of emissions, the engines are subject to 40 CFR part 60 subpart IIII (Compression Ignition NSPS).

Abstract for [M170011]

Q: Does the EPA approve a waiver of the volumetric flow rate determination required as part of the performance test for a flare under 40 CFR part 63 subparts G and FFFF at the Lyondell Chemical (Lyondell) Bayport Choate Plant (Plant) in Pasadena, Texas?

A: Yes. The EPA conditionally approves a waiver of the requirement to determine the volumetric flow rate using EPA Method 2 during initial performance testing of a flare at the Plant. The volumetric flow rate can be calculated using existing flow measurement devices upstream of the flare and estimated flows based on process knowledge from all minor streams that may be routed to the flare on an interim basis. Lyondell must install flow meters for the flare and must demonstrate compliance with flare exit velocity requirements using the approved process-based engineering calculation protocol for volumetric flow rate.

Abstract for [M170012]

Q: Does EPA approve site specific fuel analysis plans to be conducted in accordance with approved EPA Method 30 at Union Carbide Corporation's Hahnville, Louisiana facility, for the purpose of determining mercury levels to classify boiler and heater fuel sources as Other Gas 1 or 2 under 40 CFR part 63 subpart DDDDD?

A: Yes. Based on the information submitted, the EPA approves the fuel analysis plans.

Abstract for [M170013]

Q: Does the EPA approve SABIC Innovative Plastics' (SABIC's) request to replace EPA Method 30B mercury analysis breakthrough Quality Assurance/Quality Control (QA/QC) requirements with Relative Accuracy Test Audit (RATA) criteria and/or waive the breakthrough QA/QC for a test conducted in April 2016, for the purposes of complying with 40 CFR part 60 subpart DDDDD?

A: No. The EPA does not approve SABIC's request. There are substantive reasons why the criteria are different for compliance testing versus RATA testing. The EPA does find however, that while the breakthrough criterion was not met in several instances during the tests, it appears that the remaining data quality objectives were met and there is no reason to reject the QA/QC data.

Abstract for [M170014]

Q: Does the EPA approve Calumet Superior, LLC's (Calumet's) alternative monitoring request to maintain the hourly oxygen concentration in the exhaust gas from the catalyst regenerator at or above one percent by volume on a wet basis, as opposed to a dry basis as required by 40 CFR 63 subpart UUU at the Superior, Wisconsin refinery?

A: Yes. The EPA approves Calumets' alternative monitoring request for use of wet basis analyzer readings to demonstrate compliance with the one percent by volume oxygen concentration limit in 40 CFR 63.1565(a)(5)(ii) for periods of startup, shutdown, and hot standby. Calumet provided information that indicates catalyst fines can plug an analyzer that measures on a dry basis. In addition, the oxygen concentration on a wet basis will always yield a lower reading versus a dry basis oxygen reading.

Abstract for [M170017]

Q1: Are Processes 1, referred to as “adhesive compounding”, located at the 3M's Hutchinson, Minnesota (“Hutchinson”) and Knoxville, Iowa (“Knoxville”) facilities subject to the 40 CFR part 63, subpart FFFF, the Miscellaneous Organic Chemical Manufacturing (MON rule) or 40 CFR part 63, subpart HHHHH, the Miscellaneous Coating Manufacturing (MCM rule) at MCM when the adhesive compound is shipped off-site?

A1: The MON rule applies to Processes 1 when the adhesive compound is shipped off-site. The MCM does not apply to Process 1 when the adhesive compound is shipped off-site. Process 1 is a miscellaneous organic chemical manufacturing process that produces an adhesive product classified by NAICS 325, and process or uses organic HAP, and is therefore a process that is contemplated by 63.2435(b).

Q2: Are Processes 2, referred to as “mogul based adhesive compounding”, located at the 3M's Hutchinson and Knoxville facilities subject to the MON or the MCM when the mogul based adhesive compound is shipped off-site?

A2: The MON applies to Processes 2 when the mogul based adhesive compound is shipped off-site. The MCM does not apply to Processes 2 when the mogul based adhesive compound is shipped off-site. 3M described the first step which involves a chemical reaction of non-HAP containing raw materials. The first step is completed by quenching the reaction, without storage after the first step. The second step, HAP containing raw materials were added to the same vessel with the material from the first step. Because there is no storage after step 1, we believe that both steps of Process 2 are part of one miscellaneous organic chemical manufacturing process to produce a product described by NAICS 325.

Q3: Are Processes 1 and 2 located at the 3M's Hutchinson and Knoxville facilities exempt from the MON as “affiliated operations” when making the adhesive compound and mogul based adhesive compound, respectively, at the same facility that is subject to Subpart JJJJ (POWC)?

A3: Yes. Processes 1 and 2 meet the exemption for affiliated operations under the MON when making the adhesive and mogul based adhesive, respectively, at the same facility where they are used in a POWC affected facility. The definitions of affiliated operations in both the MON and the preamble to the POWC contain the broad language to define the exemption. Therefore, we interpret these broad terms to include the actual production of the product that meets the definition of “coating” under the rule.

Abstract for [WDS-146]

Q: Blaze King Industries Incorporated is seeking EPA clarification on the steps for adequately demonstrating replacement catalyst equivalency for catalyst-equipped wood heaters subject to the 2015 Standards of Performance for New Residential Wood Heaters, New Residential Hydronic Heaters, and Forced-Air Furnaces, (40 CFR part 60 subpart AAA) (2015 NSPS Standards).

A: The 2015 NSPS standards requires that, to have a catalyst deemed suitable for replacement, equivalency testing be conducted by an EPA-approved test laboratory. Consistent with the 2015 Standards, the manufacturer must notify the EPA of the date that certification testing (catalyst equivalency testing) is scheduled to begin as stated in 40 CFR 60.534(g). This notice must be received by the EPA at least 30 days before the start of testing.

Abstract for [WDS-147]

This letter is in response to the three November 20, 2015 letters (which the EPA is consolidating into one response) from OMNI-Test Laboratories, Inc. (OMNI) requesting clarification of several issues under 2015 Standards of Performance for New Residential Wood Heaters (subpart AAA) and New Residential Hydronic Heaters and Forced-Air Furnaces (subpart QQQQ) (collectively referred to as the “2015 NSPS Standards”)

Q1: Do the 2015 NSPS Standards allow unsealing of a wood heater, for which a full certification test series has not been completed, for further testing?

A1: The 2015 NSPS Standards do not specifically allow for unsealing of a wood heater for which a test laboratory has suspended a compliance test. However, EPA interprets some sections of the 2015 NSPS Standards to allow the unsealing of a wood heater for the purpose of further testing in specific circumstances.

Q2: Can the manufacturer provide new parts or make simple modifications to the sealed wood heater in lieu of making and shipping a new prototype?

A2: Yes. However, the wood heater must remain sealed until the operation and test data obtained from the suspended test is submitted and reviewed by the EPA.

Q3: Does a wood heater that has undergone an incomplete test certification have to be sealed and archived in perpetuity?

A3: No. However, when the wood heater is sealed per 40 CFR 60.535(a)(2)(vii) and 60.5477(a)(2)(vii), the wood heater must remain sealed until the operation and test data obtained from the suspended test is submitted and reviewed by the EPA.

Q4: What are the certification requirements under 40 CFR 60.533(e)?

A4: As provided in 40 CFR 60.533(e), the EPA may issue a conditional, temporary certificate of compliance to a manufacturer if they submit a full test report and a complete application.

Q5: Are the certifications of conformity that an EPA-accredited test laboratory submits to the EPA “de facto temporary certificates of compliance” because they are not required for the EPA to issue a temporary certificate of compliance to a manufacturer?

A5: No. As provided in 40 CFR 60.533(e), a conditional, temporary certificate of compliance may only be granted by the EPA provided that the manufacturer submits a complete certification application that meets all the requirements in 40 CFR 60.533(b).

Q6: Does submission of a certificate of conformity with a complete certification package (i.e., application and full test report), prior to May 16, 2016, make a manufacturer requesting certification ineligible to receive a temporary certificate of compliance?

A6: No. The manufacturer may receive a conditional, temporary certificate of compliance under 40 CFR 60.533(e) until the EPA's review of the application is complete.

Q7: What are the requirements for quality assurance audits for model lines that are deemed certified under 40 CFR 60.533(h)(1)?

A7: As provided in 40 CFR 60.533(m), “the manufacturer of a model line with a compliance certification under paragraph (h)(1) of this section must conduct a quality assurance program that satisfies the requirements of this paragraph (m) by May 16, 2016.”

Q8: Are manufacturers required to contract the services of a third-party certifier to conduct quality assurance audits?

A8: Yes. Manufacturers are required by 40 CFR 60.533(m) to contract the services of a third-party certifier to conduct quality assurance audits.

Q9: What are the requirements for deemed certified wood heaters under 40 CFR 60.533(m)?

A9: As provided in 40 CFR 60.533(m), by May 16, 2016, manufacturers must have in place a quality assurance program that satisfies the requirements under 40 CFR 60.533(m)(1) through (5).

Q10: Does a certificate of compliance issued prior to May 15, 2015, at an emission level less than or equal to the 2015 emission standard need to be renewed before May 15, 2020?

A10: No. Manufacturers of model lines that are deemed certified per 40 CFR 60.533(h)(1) and for which a certificate of compliance has been issued prior to May 15, 2015, showing an emission level less than or equal to the 2015 emission standards, do not need to renew their certificates until May 15, 2020.

Abstract for [WDS-148]

Q: Does EPA determine that the wood heater regulations at 40 CFR part 60 subparts AAA apply to the wood-burning sauna heaters manufactured by Harvia Oy?

A: No. Based upon the information provided and the specific circumstances described in Harvia Oy's letters to the EPA, the EPA determines that the wood heater subpart AAA standards do not apply to Harvia Oy's wood-burning sauna heaters since these do not meet the definition of wood heaters. The sauna heaters are intended to heat the sauna room only and not to be used for residential heating.

Abstract for [Z170001]

Q: Does the EPA determine that the Exide Technologies secondary lead smelting facility in Vernon, CA, which has been permanently shut down and is being dismantled, is subject to 40 CFR part 63 subpart X?

A: No. The EPA determines that the facility is no longer a “secondary lead smelter” for purposes of subpart X because it can no longer physically or legally operate as a secondary lead smelter. In addition, the California Department of Toxic Substances Control (DTSC) approved Exide's Final Closure Plan on December 8, 2016.

Abstract for [Z170002]

Q: Does the EPA approve Futamura USA, Incorporated's (Futamura's) request to use an alternative test method using a mass spectrometer (MS) continuous emissions monitoring system (CEMS) to measure specific sulfur compound emissions from process vents on the cellulose manufacturing process and alternative monitoring method that would eliminate the need to collect and report carbon disulfide (CS2) Recovery Plan operating data based on the availability of the emissions data from the proposed MS CEMS to demonstrate compliance with the National Emission Standards for Hazardous Air Pollutants for Cellulose Products Manufacturing (NESHAP subpart UUUU), at its Tecumseh, Kansas facility?

A: Yes. Based on the information provided, the EPA conditionally grants temporary approval for the alternative test method and monitoring method to allow Futamura to demonstrate the ability to document compliance with NESHAP UUUU by using a MS CEMS. This temporary approval expires one year from June 16, 2017. At least 60 days prior to this expiration date, Futamura is required to make a request to EPA for continue and permanent use of the CS. In addition, the CS CEMS needs to successfully pass the required relative accuracy test audit (RATA) and meet additional conditions outline in the determination letter for EPA approval.

Abstract for [Z170003]

Q: Does the EPA approve BP Product North America's (BP) alternative monitoring request to maintain the hourly oxygen concentration in the exhaust gas from the catalyst regenerator at or above one percent by volume on a wet basis, as opposed to a dry basis as required by 40 CFR 63 subpart UUU at the Whiting, Indiana refinery?

A: Yes. The EPA approves the request to maintain the hourly oxygen concentration in the exhaust gas from the catalyst regenerator at or above one percent by volume on a wet basis during periods of startup, shutdown, and hot standby. BP provided information that indicates catalyst fines can plug an analyzer that measures on a dry basis. In addition, the oxygen concentration on a wet basis will always yield a lower reading versus a dry basis oxygen reading.

Dated: May 7, 2018.
David A. Hindin,
Director, Office of Compliance, Office of Enforcement and Compliance Assurance.

[FR Doc. 2018-10463 Filed 5-15-18; 8:45 am]

BILLING CODE 6560-50-P